DEPARTMENT OF ENERGY

Advance Notice of Intent To Prepare an Environmental Impact Statement for the Disposal of Greater-Than-Class-C Low-Level Radioactive Waste

AGENCY: Department of Energy.

ACTION: Advance notice of intent.

SUMMARY: The U.S. Department of Energy (DOE) is providing advance notice of its intent to prepare an Environmental Impact Statement (EIS) under the National Environmental Policy Act (NEPA) on the disposal of Greater-Than-Class-C (GTCC) low-level radioactive waste (LLW) generated by activities licensed by the Nuclear Regulatory Commission (NRC). The primary purpose of this EIS is to address the disposal of wastes with concentrations greater than Class C, as defined in NRC regulations at 10 CFR part 61, resulting from NRC or Agreement State licensed activities (hereafter referred to as NRC licensed activities). DOE also plans to review its waste inventories with a view toward including those wastes with characteristics similar to GTCC waste and which otherwise do not have a path to disposal in the scope of the EIS, as appropriate. DOE intends that this EIS will enable DOE to select any new or existing disposal locations, facilities, and methods for disposal of GTCC LLW and DOE waste with similar characteristics.

The Low-Level Radioactive Waste Policy Amendments Act of 1985 (LLRWPAA) assigned to the Federal Government responsibility for the disposal of GTCC radioactive waste. This EIS will evaluate alternative locations and methods for disposal of these wastes. Potential disposal locations include deep geologic disposal facilities; existing LLW disposal facilities, both commercial and DOE; and new facilities at DOE or other government sites, or on private land. Methods to be considered include deep geologic disposal, greater confinement disposal configurations, and enhanced near-surface disposal facilities.

DOE is issuing this Advance Notice of Intent (ANOI), pursuant to 10 CFR 1021.311(b), in order to inform, and request early comments from, the public and interested agencies about the proposed action, the preliminary range of alternatives, and the potential issues related to DOE's decisions for this category of waste. Following the issuance of this ANOI, DOE intends to conduct further activities to collect updated information from licensees and DOE sites on waste characteristics and projections to support the EIS analysis. As part of that effort, DOE may seek assistance from industry trade associations, Agreement States, NRC, and other appropriate entities. DOE intends to invite the NRC and the Environmental Protection Agency to participate as cooperating agencies in the preparation of this EIS.

DATES: Comments on this ANOI are due June 10, 2005. DOE will consider comments received after June 10, 2005 to the extent practicable. DOE plans to issue a Notice of Intent (NOI) for this EIS in the fall of 2005. The NOI will propose a range of reasonable alternatives for disposal methods and locations. After the NOI is issued, DOE will conduct public scoping meetings to assist in further defining the scope of the EIS and to identify significant issues to be addressed. The dates and locations of all scoping meetings will be announced in the NOI, subsequent Federal Register notices, and in local media.

ADDRESSES: Please direct comments or suggestions on the scope of the EIS and questions concerning the proposed project to: James Joyce, Document Manager, Office of Federal Disposition Options (EM-13), U.S. Department of Energy, 1000 Independence Avenue, SW., Washington, DC 20585-0119, Telephone (301) 903-2151, Fax: 301-903-3877, E-mail to: james.joyce@em.doe.gov (use “ANOI Comments” for the subject).

FOR FURTHER INFORMATION CONTACT: To request further information about this EIS, the public scoping meetings, or to be placed on the EIS distribution list, use any of the methods listed under ADDRESSES above. For general information concerning the DOE National Environmental Policy Act (NEPA) process, contact: Carol Borgstrom, Director, Office of NEPA Policy and Compliance (EH-42), U.S. Department of Energy, 1000 Independence Avenue, SW., Washington, DC 20585-0119, Telephone: 202-586-4600, or leave a message at 1-800-472-2756, Fax: 202-586-7031.

This Advance Notice of Intent will be available on the Internet at http://www.eh.doe.gov/nepa.

SUPPLEMENTARY INFORMATION:

Background

GTCC waste is LLW generated by NRC licensed facilities with concentrations of radionuclides which exceed the limits established by the NRC for Class C radioactive waste, as defined by 10 CFR 61.55. The NRC defines LLW classes as A, B and C by the concentration of specific short- and long-lived radionuclides, with Class C having the highest concentration limits (see 10 CFR part 61, “Licensing Requirements for Land Disposal of Radioactive Waste”).

Section 3(b)(1)(D) of the LLRWPAA assigns to the Federal Government responsibility for the disposal of certain GTCC radioactive waste generated by NRC licensees, which is not owned or generated by DOE, by the United States Navy from decommissioning vessels, or by certain other federal activities. The LLRWPAA also specifies that GTCC LLW, which is designated a federal responsibility by subparagraph (b)(1)(D) of the Act, be disposed of in a facility licensed by the NRC that the NRC determines is adequate to protect public health and safety. The LLRWPAA further states that the Secretary of Energy shall issue a report recommending safe disposal options for such wastes. DOE issued such a report in 1987. The report can be obtained by contacting the Document Manager listed under ADDRESSES above.

GTCC LLW occurs in three forms, as discussed in the following sections and summarized in Table 1. The information in Table 1 on waste volumes and characteristics is based on reports that are approximately 10 years old and, therefore, may no longer be accurate. Accordingly, DOE plans to conduct activities to update this information following the issuance of this ANOI. The reports identified below can be obtained by contacting the Document Manager listed under ADDRESSES above.

1. Sealed Sources

Sealed sources contain radionuclides in concentrated, relatively small, encapsulated packages. These sources are widely used in medicine, agriculture, research and industry. DOE funded a study by the Idaho National Engineering Laboratory (Characterization of Greater-Than-Class-C Sealed Sources, Volumes 1, 2, and 3, DOE/LLW-163 [Idaho Falls, Idaho: Sept. 1994]), which estimated there are about 250,000 GTCC sealed sources in the United States.

In the past, NRC has approached DOE regarding the disposition of unwanted sealed sources that present security or safety and health concerns due to existing storage conditions. As a result of these concerns, DOE has been recovering domestic sealed sources since 1992. This effort has focused on those sources that were determined to pose the highest risk, resulting in recovery, transfer of title and possession to DOE, and secure interim storage by DOE of approximately 10,000 GTCC sealed sources. To date, no disposal path for many of these sealed sources has been identified. The September 11, 2001, terrorist events and subsequent potential threats have heightened concerns that individuals or organizations could gain possession of these sources and use them as the radionuclide source to make a Radiological Dispersal Device (also known as a “dirty bomb”). According to a DOE-funded study by the Idaho National Engineering Laboratory (Greater-Than-Class C Low-Level Radioactive Waste Characterization: Estimated Volumes, Radionuclides and Other Characteristics, DOE/LLW-114, Revision 1 [Idaho Falls, Idaho: Sept. 1994]), the expected volume of sealed sources requiring disposal through 2035 is estimated to be as high as 1,913 cubic meters (packaged volume).

2. GTCC-Activated Metals

There are over 100 operating nuclear power plants and approximately 20 non-operating power plants in various phases of decommissioning across the United States. As a result of reactor operations, portions of the reactor barrel and other stainless steel components near the fuel assemblies become highly activated by the neutron flux. The majority of this waste is generated when nuclear power plants are decommissioned, although some may result from maintenance activities performed before decommissioning. Many of these nuclear power plants are applying for and receiving license extensions from NRC. Therefore, much of this waste will be generated in the future. According to DOE/LLW-114, Revision 1, nuclear utilities will generate an estimated 864 to 5,960 cubic meters (packaged volumes) of GTCC-activated metal LLW through 2055.

3. Other GTCC LLW

The third form of GTCC LLW consists of material such as nuclear power plant resin, filter media and general laboratory waste (glove boxes, gloves, wipes, smoke detectors), job wastes or other like debris from NRC-licensed fuel fabrication, fuel testing, and research laboratories. Nuclear utilities will generate an estimated 167 to 866 cubic meters of such waste through the year 2035 (DOE/LLW-114, Revision 1).

In addition, DOE manages waste with radionuclide concentrations similar to GTCC LLW. Under the Atomic Energy Act of 1954, as amended (AEA), DOE has the authority to regulate the management of the radioactive hazard of its wastes; therefore, DOE does not use the 10 CFR part 61 classification system, and most DOE wastes are not generated by NRC-licensed activities. Some of these DOE wastes are very similar to GTCC waste in that they are low-level wastes with concentrations greater than Class C and currently do not have an identified path for disposal. Much of the DOE waste that is similar to GTCC waste is generated by AEA defense activities.

Table 1.—Summary of Wastes Being Considered for Inclusion in the Scope of the Planned Environmental Impact Statement Addressing Long-term Disposition of Greater Than Class C Waste
Waste form | Primary source | Volume and activity*
Sealed Sources | Primarily medical, industrial, and scientific sources containing long-half-life nuclides (e.g. americium, plutonium) and high activity sources with shorter half-lives such as cesium-137, and strontium-90 | Total estimate through 2035 is up to 1,913 cubic meters, with a total activity industrial, and scientific sources of approximately 4,040,000 curies.
Activated Metal | Primarily from more than 100 nuclear power currently operating, and decommissioning activities at 24 plants | As decommissioning of reactors proceeds over time, it is estimated that GTCC activated metal will amount to about 864 plants to 5,960 cubic meters, containing 38 to 102 million curies through year 2055.
Other Waste | Assortment of wastes such as glove boxes, fuel fabrication equipment, and trash resulting from source manufacture, research, utility, medical, agricultural and industrial sources | It is estimated that the quantity of non-DOE waste in this category will amount to about 167 to 866 cubic meters, containing 6,962 to 19,707 curies through 2035.
DOE Waste | DOE also plans to review its waste inventories with a view toward including those wastes with characteristics similar to GTCC waste in the scope of the EIS, as appropriate | DOE plans to develop an inventory, including volume and activity estimates.
* Volume and activity estimates were obtained from DOE/LLW-114, Revision 1. All volume estimates are packaged volumes.

Purpose and Need for Action

DOE needs to identify the facilities and methods for disposing of GTCC LLW and similar DOE waste. Pursuant to the LLRWPAA, the Federal Government is responsible to provide disposal for GTCC LLW generated by NRC licensees. DOE is also responsible for the disposal of its wastes that are similar to GTCC waste. Currently, there are no facilities available for disposal of GTCC waste. Until disposal capability becomes available, the only option for managing GTCC LLW is to store it at its current locations or to find a location that can receive the waste and store it until a disposal facility is available to receive it.

Discussion

In the 1987 report to Congress that provided recommendations on the disposal of GTCC LLW, the Secretary of Energy identified a number of activities that could be undertaken regarding GTCC waste including resolving regulatory uncertainties, addressing technical issues, and taking steps to ensure that entities that generate GTCC LLW bear all reasonable costs of waste disposal.

In 2002, the General Accounting Office (now called the Government Accountability Office or GAO) conducted a review to determine the number of unwanted sealed sources in the United States, to determine the status of recovery efforts within DOE, to identify problems that may exist regarding recovery efforts, and to determine the status of DOE's efforts to provide a disposal facility for unwanted sealed sources. The GAO prepared a report, Nuclear Nonproliferation-DOE Action Needed to Ensure Continued Recovery of Unwanted Sealed Radioactive Sources, GAO-03-483, recommending that DOE initiate the process to develop a permanent disposal facility for GTCC LLW, and that it develop a plan that would establish milestones for the process, evaluate disposal options, estimate costs and address legislative, regulatory, and licensing considerations. Although GAO focused its review on sealed sources, DOE recognizes the LLRWPAA requirement that the Federal Government is responsible for disposal of other types of GTCC LLW from NRC-licensed activities. DOE also plans to review its waste inventories with a view toward including those wastes with characteristics similar to GTCC waste in the scope of the EIS, as appropriate.

Potential Range of Alternatives

DOE proposes to dispose of GTCC LLW in a manner that protects human health and the environment. Accordingly, DOE intends to prepare an EIS pursuant to NEPA that would evaluate reasonable alternatives for disposal of these wastes. The scope of the EIS would include disposal capacity that will be needed for (1) current and projected GTCC LLW generated by NRC licensees that does not have a disposal pathway, and (2) DOE wastes with characteristics similar to GTCC waste identified for inclusion in the EIS based on DOE's inventory review.

Alternatives to be considered include disposal in new or existing DOE or commercial facilities, including greater confinement disposal configurations, geologic disposal, or enhanced near-surface disposal facilities. The varied forms of GTCC LLW may make multiple locations and disposal methods desirable, and this EIS would evaluate such options.

New facilities that could offer greater confinement disposal would include capabilities such as boreholes, intermediate depth disposal, and other specially designed facilities. DOE would also consider which types of GTCC LLW could be safely disposed of in existing commercial LLW disposal facilities and DOE disposal facilities. The potential environmental impacts of using both existing and new facilities owned and operated by DOE as well as existing and new facilities owned and operated by commercial licensees would be considered. DOE would evaluate whether all waste types can or should be disposed of in the same facility or whether different waste types would best be disposed of in different facilities. DOE would also consider quantities and time periods when wastes would require disposal and alternative modes of disposal.

Invitation to Comment

DOE invites the public to provide early assistance in identifying the scope and environmental issues to be analyzed in the forthcoming GTCC LLW disposal EIS. DOE will consider public comments and other relevant information in developing a Notice of Intent for publication in the Federal Register.

Following issuance of this ANOI, DOE will initiate activities to update information about the GTCC waste types and quantities in need of disposition. DOE will use this information to update the data to be analyzed in the EIS.

Preliminary Identification of Programmatic Issues

DOE plans to consider the issues listed below in its analysis of the potential impacts of alternatives for the disposal of GTCC LLW. DOE invites comment from Federal agencies, Native American tribes, state and local governments, licensees of sealed sources and other GTCC LLW, and the public on these and any other issues that should be considered in the EIS:

• Identifying the best means to obtain an accurate inventory of potential GTTC LLW and DOE waste with similar characteristics including the source, volume, concentrations, and other relevant characteristics.

• Determining the logistics for waste characterization, inventory, transportation, treatment, interim storage and permanent disposal.

• Evaluating mechanisms and scenarios under which GTCC waste could be safely disposed of in existing and/or new LLW disposal facilities.

• Identifying and proposing resolution for issues associated with the chemical constituents in the GTCC LLW that may be regulated under the Resource Conservation and Recovery Act (RCRA).

• Identifying options for ensuring that the beneficiaries of the activities resulting in the generation of GTCC LLW bear all reasonable cost of disposing of such waste.

• Identifying DOE wastes that are appropriate for inclusion in the EIS.

Potential Environmental Issues for Analysis

The DOE has tentatively identified the following environmental issues for analysis in the GTCC EIS. The list is presented to facilitate early comment on the scope of the EIS; it is not intended to be comprehensive nor to predetermine the alternatives to be analyzed or their potential impacts.

• Potential impacts to the general population and workers from radiological and non-radiological releases.

• Potential impacts, including air and water quality impacts.

• Potential transportation impacts from the shipment of GTCC radioactive waste to a disposal site.

• Potential impacts from postulated accidents.

• Potential disproportionately high and adverse effects on low-income and minority populations (environmental justice).

• Potential Native American concerns.

• Irretrievable and irreversible commitment of resources.

• Short-term and long-term land use impacts.

• Compliance with applicable Federal, state, and local requirements.

• Long-term site health and environmental impacts, including potential impacts on groundwater quality.

• Long-term site suitability, including erosion and seismicity.

EIS Process

DOE plans to issue the NOI in the fall of calendar year 2005, which will be followed by a public scoping period. DOE will announce the availability of the Draft EIS in the Federal Register and other media, and will provide the public, organizations, and agencies with an opportunity to submit comments. These comments will be considered and addressed in the Final EIS. DOE will issue a Record of Decision no sooner than 30 days after publication of the Environmental Protection Agency's notice of availability of the Final EIS.

Issued in Washington, DC, on May 4, 2005.
C. Russell H. Shearer,
Acting Assistant Secretary for Environment, Safety and Health.

[FR Doc. 05-9397 Filed 5-10-05; 8:45 am]

BILLING CODE 6450-01-P